DEPARTMENT OF TRANSPORTATION

Federal Aviation Administration

14 CFR Part 39

[Docket No. 2000-NM-148-AD; Amendment 39-12308; AD 2001-13-26]

RIN 2120-AA64

Airworthiness Directives; McDonnell Douglas Model DC-10-10, -15, -30, and -40 Series Airplanes, and Model MD-10-10F and -30F Series Airplanes

AGENCY: Federal Aviation Administration, DOT.

ACTION: Final rule.

SUMMARY: This amendment adopts a new airworthiness directive (AD), applicable to certain McDonnell Douglas Model DC-10-10, -15, -30, and -40 series airplanes, and Model MD-10-10F and -30F series airplanes, that requires a general visual inspection to detect chafing or damage of the feeder cables of the external ground power in the forward cargo compartment between certain fuselage stations; and repair, if necessary. This amendment also requires installation of spiral wrap on the feeder cables of the external ground power. This action is necessary to prevent chafing of the feeder cables during removal of the sump panels of the cargo floor, which could result in electrical arcing and damage to adjacent structure, and consequent smoke and/or fire in the forward cargo compartment. This action is intended to address the identified unsafe condition.

DATES: Effective August 27, 2001.

The incorporation by reference of certain publications listed in the regulations is approved by the Director of the Federal Register as of August 27, 2001.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Natalie Phan-Tran, Aerospace Engineer, Systems and Equipment Branch, ANM-130L, FAA, Los Angeles Aircraft Certification Office, 3960 Paramount Boulevard, Lakewood, California 90712-4137; telephone (562) 627-5343; fax (562) 627-5210.

SUPPLEMENTARY INFORMATION: A proposal to amend part 39 of the Federal Aviation Regulations (14 CFR part 39) to include an airworthiness directive (AD) that is applicable to certain McDonnell Douglas Model DC-10 series airplanes, was published in the Federal Register on November 29, 2000 (65 FR 71076). That action proposed to require a general visual inspection to detect chafing or damage of the feeder cables of the external ground power in the forward cargo compartment between certain fuselage stations; and repair, if necessary. The action also proposed to require installation of spiral wrap on the feeder cables of the external ground power.

Change to the Applicability of Notice of Proposed Rulemaking (NPRM)

On May 9, 2000, the FAA issued a Type Certificate (TC) for McDonnell Douglas Model MD-10-10F and MD-10-30F series airplanes. Model MD-10 series airplanes are Model DC-10 series airplanes that have been modified with an Advanced cockpit. The feeder cables of the external ground power in the forward cargo compartment installed on Model MD-10-10F and MD-10-30F series airplanes (before or after the modifications necessary to meet the type design of a Model MD-10 series airplane) are identical to those on the affected Model DC-10 series airplanes. Therefore, all of these airplanes may be subject to the same unsafe condition. In addition, the manufacturer's fuselage number and factory serial number are not changed during the conversion from a Model DC-10 to Model MD-10. We find that Model MD-10-10F and MD-10-30F series airplanes were not specifically identified by model in the applicability of the NPRM; however, they were identified by manufacturer's fuselage numbers in McDonnell Douglas Alert Service Bulletin DC10-24A147, Revision 02, dated March 6, 2000 (which was referenced in the applicability statement of the NPRM for determining the specific affected airplanes). Therefore, we have revised the applicability throughout the final rule to include Model MD-10-10F and MD-10-30F series airplanes. We have also designated the specific affected Model DC-10 series airplanes.

Comments

Interested persons have been afforded an opportunity to participate in the making of this amendment. Due consideration has been given to the comment received.

Request To Delete A Certain Access Requirement

One commenter requests that the FAA not require removal of the cargo sump panels, which is done as part of accessing the inspection area per McDonnell Douglas Alert Service Bulletin DC10-24A147, Revision 02, dated March 6, 2000 (which was referenced in the NPRM as the appropriate source of service information). The commenter states that it has received confirmation from Boeing that removal of the cargo sump panels is not required to accomplish the intent of the service bulletin. The commenter also states that this task adds substantial unnecessary work hours and cost.

The FAA agrees. Since issuance of the NPRM, the FAA has reviewed and approved McDonnell Douglas Alert Service Bulletin DC10-24A147, Revision 03, dated April 30, 2001. This revision deletes the reference to the sump panels as a requirement to gain access and revises the effectivity heading to reflect Model MD-10 series airplanes. No additional work is required by this revision for airplanes previously modified by Revision 02 of the service bulletin. Therefore, we have revised the final rule to reference Revision 03 of the subject service bulletin as the appropriate source of service information for accomplishing the required actions and for determining the specific affected airplanes. In addition, we have included a new note to give operators credit for previously accomplishing the requirements of this AD per Revision 02 of the subject service bulletin.

Conclusion

After careful review of the available data, including the comments noted above, the FAA has determined that air safety and the public interest require the adoption of the rule with the changes previously described. The FAA has determined that these changes will neither increase the economic burden on any operator nor increase the scope of the AD.

Cost Impact

There are approximately 260 Model DC-10 and MD-10-10F and -30F series airplanes of the affected design in the worldwide fleet. The FAA estimates that 171 airplanes of U.S. registry will be affected by this AD.

For Groups 1, 2, and 3 airplanes, it will take approximately 5 work hours per airplane (including gaining and closing access) to accomplish the required inspection, at an average labor rate of $60 per work hour. Based on these figures, the cost impact of the inspection required by this AD on U.S. operators is estimated to be $300 per airplane.

For Group 1 airplanes, it will take approximately 2 work hours per airplane (including gaining and closing access) to accomplish the required installation, at an average labor rate of $60 per work hour. Required parts will cost approximately $140 per airplane. Based on these figures, the cost impact of the installation required by this AD on U.S. operators of Group 1 airplanes is estimated to be $260 per airplane.

For Group 2 airplanes, it will take approximately 3 work hours per airplane (including gaining and closing access) to accomplish the required installation, at an average labor rate of $60 per work hour. Required parts will cost approximately $140 per airplane. Based on these figures, the cost impact of the installation required by this AD on U.S. operators of Group 2 airplanes is estimated to be $320 per airplane.

For Group 3 airplanes, it will take approximately 4 work hours per airplane (including gaining and closing access) to accomplish the required installation, at an average labor rate of $60 per work hour. Required parts will cost approximately $140 per airplane. Based on these figures, the cost impact of the installation required by this AD on U.S. operators of Group 3 airplanes is estimated to be $380 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-13-26 McDonnell Douglas: Amendment 39-12308. Docket 2000-NM-148-AD.

Applicability: Model DC-10-10, -15, -30, and -40 series airplanes, and Model MD-10-10F and -30F series airplanes; as listed in McDonnell Douglas Alert Service Bulletin DC10-24A147, Revision 03, dated April 30, 2001; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent chafing of the feeder cables during removal of the sump panels of the cargo floor, which could result in electrical arcing and damage to adjacent structure, and consequent smoke and/or fire in the forward cargo compartment, accomplish the following:

Inspection, Installation of Spiral Wrap, and Repair, if Necessary

(a) Within 1 year after the effective date of this AD, do the actions specified in paragraphs (a)(1) and (a)(2) of this AD per McDonnell Douglas Alert Service Bulletin DC10-24A147, Revision 03, dated April 30, 2001.

(1) Do a general visual inspection to detect chafing or damage of the feeder cables of the external ground power in the forward cargo compartment between fuselage stations Y=879.000 and Y=1019.000 left of centerline. If any chafing or damage is detected, before further flight, repair the feeder cables of the external ground power and adjacent structure.

Note 2: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

(2) Install spiral wrap on the feeder cables of the external ground power.

Note 3: Accomplishment of the inspection, repair, and installation per McDonnell Douglas Alert Service Bulletin DC10-24A147, Revision 02, dated March 6, 2000, before the effective date of this AD, is considered acceptable for compliance with the requirements of this AD.

Alternative Methods of Compliance

(b) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 4: Information concerning the existence of approved alternative methods of compliance with this AD, if any, may be obtained from the Los Angeles ACO.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with McDonnell Douglas Alert Service Bulletin DC10-24A147, Revision 03, dated April 30, 2001. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(e) This amendment becomes effective on August 27, 2001.

Issued in Renton, Washington, on July 9, 2001.
Vi L. Lipski,
Manager, Transport Airplane Directorate, Aircraft Certification Service.

[FR Doc. 01-17591 Filed 7-20-01; 8:45 am]

BILLING CODE 4910-13-U